DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

Drug and Alcohol Services Information System (DASIS)—(OMB No. 0930-0106, Revision)—The DASIS consists of three related data systems: The Inventory of Substance Abuse Treatment Services (I-SATS); the National Survey of Substance Abuse Treatment Services (N-SSATS), and the Treatment Episode Data Set (TEDS). The I-SATS includes all substance abuse treatment facilities known to SAMHSA. The N-SSATS is an annual survey of all substance abuse treatment facilities listed in the I-SATS. The TEDS is a compilation of client-level admission data and discharge data submitted by States on clients treated in facilities that receive State funds. Together, the three DASIS components provide information on the location, scope and characteristics of all known drug and alcohol treatment facilities in the United States, the number of persons in treatment, and the characteristics of clients receiving services at publicly-funded facilities. This information is needed to assess the nature and extent of these resources, to identify gaps in services, to provide a database for treatment referrals, and to assess demographic and substance-related trends in treatment.

The request for OMB approval includes only modest changes to the 2003 N-SSATS questionnaire, including the addition of buprenorphine to the pharmacotherapies list, the addition of beds for children of clients in treatment to the “other services”' list, and the addition of a question to obtain outpatient treatment capacity to the outpatient treatment section. The remaining sections of the N-SSATS questionnaire will remain unchanged except for minor modifications to wording.

Approval is also being requested for an additional component, the Mini-N-SSATS. The Mini-N-SSATS is a procedure for collecting services data from newly identified facilities between main cycles of the survey and will be used to improve the listing of treatment facilities in the on-line treatment facility Locator. The between-survey telephone calls to newly identified facilities allow facilities to be added to the Locator in a more timely manner.

Estimated annual burden for the DASIS activities is shown below:

Type of respondent and activity | Number of respondents | Responses per respondent | Hours per response | Total burden hours
States:
TEDS Admission Data | 52 | 4 | 6 | 1,248
TEDS Discharge Data | 35 | 4 | 6 | 840
TEDS Discharge Crosswalks | 5 | 1 | 10 | 50
I-SATS Update | 56 | 67 | 0.08 | 300
State Subtotal | 56 |  |  | 2,438
Facilities
N-SSATS Questionnaire | 19,000 | 1 | .6 | 11,400
Pretest of N-SSATS revisions | 50 | 1 | 1 | 50
Augmentation Screener | 500 | 1 | .08 | 40
Mini N-SSATS | 700 | 1 | .4 | 280
Facility Subtotal | 20,250 |  |  | 11,770
Total | 20,306 |  |  | 14,208

Written comments and recommendations concerning the proposed information collection should be sent within 30 days of this notice to: Allison Herron Eydt, Human Resources and Housing Branch, Office of Management and Budget, New Executive Office Building, Room 10235, Washington, DC 20503.

Dated: October 23, 2002.
Richard Kopanda,
Executive Officer, SAMHSA.

[FR Doc. 02-27675 Filed 10-30-02; 8:45 am]

BILLING CODE 4162-20-P